DEPARTMENT OF COMMERCE

Foreign-Trade Zones Board

[B-05-2021]

Foreign-Trade Zone (FTZ) 265—Conroe, Texas; Notification of Proposed Production Activity; Bauer Manufacturing LLC, d/b/a NEORig (Water Well Drilling Rigs), Conroe, Texas

The City of Conroe, grantee of FTZ 265, submitted a notification of proposed production activity to the FTZ Board on behalf of Bauer Manufacturing LLC, d/b/a/NEORig (Bauer), located in Conroe, Texas. The notification conforming to the requirements of the regulations of the FTZ Board (15 CFR 400.22) was received on February 1, 2021.

Bauer already has authority to produce pile drivers and leads, boring machinery, foundation construction equipment, stationary oil/gas drilling rigs, and related parts and assemblies within FTZ 265. The current request would add two finished products to the scope of authority. Pursuant to 15 CFR 400.14(b), additional FTZ authority would be limited to the specific finished products described in the submitted notification (as described below) and subsequently authorized by the FTZ Board.

Production under FTZ procedures could exempt Bauer from customs duty payments on the foreign-status materials/components used in export production. On its domestic sales, for the foreign-status materials/components in the existing scope of authority, Bauer would be able to choose the duty rates during customs entry procedures that apply to water well drilling rigs, and self-propelled water well drilling rigs (duty-free). Bauer would be able to avoid duty on foreign-status components which become scrap/waste. Customs duties also could possibly be deferred or reduced on foreign-status production equipment.

Public comment is invited from interested parties. Submissions shall be addressed to the Board's Executive Secretary and sent to: ftz@trade.gov. The closing period for their receipt is March 22, 2021.

A copy of the notification will be available for public inspection in the “Reading Room” section of the Board's website, which is accessible via www.trade.gov/ftz.

For further information, contact Juanita Chen at juanita.chen@trade.gov or 202-482-1378.

Dated: February 2, 2021.
Andrew McGilvray,
Executive Secretary.

[FR Doc. 2021-02515 Filed 2-5-21; 8:45 am]

BILLING CODE 3510-DS-P